DEPARTMENT OF THE TREASURY

Submission for OMB Review; Comment Request

September 27, 2016.

The Department of the Treasury will submit the following information collection request to the Office of Management and Budget (OMB) for review and clearance in accordance with the Paperwork Reduction Act of 1995, Public Law 104-13, on or after the date of publication of this notice.

DATES: Comments should be received on or before October 31, 2016 to be assured of consideration.

ADDRESSES: Send comments regarding the burden estimates, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

SUPPLEMENTARY INFORMATION:

Internal Revenue Service (IRS)

OMB Control Number: 1545-0889.

Type of Review: Extension of a currently approved collection.

Title: Disclosure Statement (Form 8275), and Regulation Disclosure Statement (Form 8275-R).

Form: Forms 8275, 8275-R.

Abstract: Taxpayers and tax return preparers use Form 8275 to disclose items or positions that are not otherwise adequately disclosed on a tax return to avoid certain penalties.

Affected Public: Businesses or other for-profits.

Estimated Total Annual Burden Hours: 3,716,664.

OMB Control Number: 1545-2032.

Type of Review: Extension of a currently approved collection.

Title: Application to Participate in the Income Verification Express Service (IVES) Program.

Form: Form 13803.

Abstract: The form is used to submit the required information necessary to complete the e-services enrollment process for IVES users and to identify delegates receiving transcripts on behalf of the principal account user.

Affected Public: Businesses or other for-profits.

Estimated Total Annual Burden Hours: 100.

OMB Control Number: 1545-2075.

Type of Review: Extension of a currently approved collection.

Title: Form 13614-NR—Nonresident Alien Intake and Interview Sheet.

Form: Form 13614.

Abstract: The completed form is used by screeners, preparers, or others involved in the tax return preparation process to more accurately complete tax returns of international students and scholars. These persons need assistance having their returns prepared so they can fully comply with the law.

Affected Public: Individuals or households.

Estimated Total Annual Burden Hours: 141,260.

OMB Control Number: 1545-2158.

Type of Review: Extension of a currently approved collection.

Title: Notice 2010-54: Production Tax Credit for Refined Coal.

Abstract: This notice sets forth interim guidance pending the issuance of regulations relating to the tax credit under § 45 of the Internal Revenue Code (Code) for refined coal.

Affected Public: Businesses or other for-profits.

Estimated Total Annual Burden Hours: 1,500.

Brenda Simms,
Treasury PRA Clearance Officer.

[FR Doc. 2016-23713 Filed 9-29-16; 8:45 am]

BILLING CODE 4830-01-P